SMALL BUSINESS ADMINISTRATION

[Declaration of Disaster #3630]

Commonwealth of Pennsylvania

As a result of the President's major disaster declaration on September 19, 2004, I find that Beaver, Blair, and Crawford Counties in the Commonwealth of Pennsylvania constitute a disaster area due to damages caused by severe storms and flooding associated with Tropical Depression Frances occurring on September 8 and 9, 2004. Applications for loans for physical damage as a result of this disaster may be filed until the close of business on November 18, 2004 and for economic injury until the close of business on June 20, 2005 at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Allegheny, Bedford, Butler, Cambria, Centre, Clearfield, Erie, Huntingdon, Lawrence, Mercer, Venango, Warren, and Washington in the Commonwealth of Pennsylvania; Ashtabula, Columbiana, Mahoning, and Trumbull Counties in the State of Ohio; and Hancock County in the State of West Virginia.

The interest rates are:

| Percent
For Physical Damage:
Homeowners With Credit Available Elsewhere | 6.375
Homeowners Without Credit Available Elsewhere | 3.187
Businesses With Credit Available Elsewhere | 5.800
Businesses and Non-Profit Organizations Without Credit Available Elsewhere | 2.900
Others (Including Non-Profit Organizations) With Credit Available Elsewhere | 4.875
For Economic Injury:
Businesses and Small Agricultural Cooperatives Without Credit Available Elsewhere | 2.900

The number assigned to this disaster for physical damage is 363008. For economic injury the number is 9ZY400 for Pennsylvania; 9ZY500 for Ohio; and 9ZY600 for West Virginia.

(Catalog of Federal Domestic Assistance Program Nos. 59002 and 59008)

Dated: September 21, 2004.
Herbert L. Mitchell,
Associate Administrator for Disaster Assistance.

[FR Doc. 04-21904 Filed 9-29-04; 8:45 am]

BILLING CODE 8025-01-P